FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary

Royal Cargo Line, Inc., 612 E. Dallas Road, Suite 400, Grapevine, TX 76051, Officers: Robert Ryan, Director, Imports/Customs, (Qualifying Individual) Eric Wolfe, President/Vice President.

Metro Freight Group Inc., 24 Putnam Avenue, Valley Stream, NY 11580, Officer: Terry H. Chen, President/VP/Sec./Treas., (Qualifying Individual).

Oceanic Logistics, Inc., 1417 Ashford Lane, First Floor, Auora, IL 60502, Officers: Iinderjeet Mangat, President, (Qualifying Individual) Fatch Harisinghani, Treasurer/Secretary.

Port Alliance Logistics International, Inc., dba Port Alliance Logistics (Los Angeles), dba Port Alliance Logistics (New York), 70 East Sunrise Highway, Suite 607, Valley Stream, NY 11581, Officers: Shawn Mak, Director, (Qualifying Individual), Huang-Yu L. Lin, President.

WTG Logistics, Inc. dba WTG International, 140 Epping Road, Exeter, NH 03833, Officers: Charles F. McFeeters, Jr., Vice President, (Qualifying Individual), William Walsh, President.

J.C.C. International Enterprises, Inc., State Road #190 Km. 3.4 Sababa Abajo Ward, Carolina, PR 00984, Officers: Liza Vilanova, President (Qualifying Individual) Ivonne Vilanova, Secretary.

Propel Logistics International, Inc., 1111 Watson Center Road, #C, Carson, CA 90745, Officers: Arthur L. Bravo, President, (Qualifying Individual) Thomas Bowling, Treasurer.

FC Logistics, USA, Inc., 473 Broadway, Suite 215, Bayonne, NJ 07002. Officer: Nejat K. Denizli, Sole Officer, (Qualifying Individual).

Non-Vessel-Operating Common Carrier and Ocean Freight Forwarder—Ocean Transportation Intermediary:

Encore Trade & Logistics, Inc., 6307 NW. 99th Avenue, Doral, FL 33178, Officer: Oscar Alvarez, President/Secretary, (Qualifying Individual).

AFS Advantage, L.L.C., 8141 East 41st Street, Tulsa, OK 74145, Officers: Shane O'Neal, Operations Officer, (Qualifying Individual) Brian P. Barker, Owner.

Sariusa, LLC, 8300 NW. 53rd Street, Suite 350, Doral, FL 33166. Officers: Juan C. Gonzalez, Manager, (Qualifying Individual) Luis Torres, Managing Member 1.

Caribbean Warehouse & Logistics, Inc., Royal Industrial Park, Bldg. B, Unit 4, Catano, PR 00918. Officers: Lemuel J. Toledo, Vice President, (Qualifying Individual) Ivan Santos, President.

Octopus Line Corporation, 8358 NW. 66th Street, Miami, FL 33166, Officers: Holmes A. Cruz, President, (Qualifying Individual) Zulema L. Diaz, Secretary.

Top Since Logistics, Inc., 1255 Corporate Center Drive, Suite 210, Monterey Park, CA 91754, Officer: Pair L. Williams, Vice President, (Qualifying Individual) Wei Wen, President.

Servi-Fast International Corp., 7999 NW. 81st Place, Medley, FL 33166, Officers: Ian C. Alvarez, Vice President, (Qualifying Individual) Carlos M. Alvarez, President.

Allen Lund Company, Inc., 4529 Angeles Crest Highway, Suite 300, La Canada, CA 91011, Officers: David F. Lund, Vice President (Sales and Offices), Assistant Secretary/Director, (Qualifying Individual) David A. Lund, President/Chairman of the Board.

Ocean Freight Forwarder—Ocean Transportation Intermediary

Jamaica Worldwide Shipping Inc dba Caribeuro Shipping, 4101 Elrey Road, Orlando, FL 32808, Officers: Selvin Gabriel, President, (Qualifying Individual) Marline Gabriel, Vice President.

BNSF Logistics International, Inc., 612 E. Dallas Road, Suite 400, Grapevine, TX 76051, Officers: Gary M. Lancaster, Vice President/General Manager, (Qualifying Individual) James Gallegos, Secretary.

A.W.L.I. Group, Inc. dba Amber Worldwide Logistics, 147-60 175th Street, Jamaica, NY 11434, Officers: Elaine Rosendorf, President, (Qualifying Individual) Keith Milliner, Vice President.

Absolute Global Shipping Incorporated, 1358 Foxboro Drive, Brandon, FL 33511. Officer: Tracy L. Wayne, President/Secretary, (Qualifying Individual).

Barthco International, Inc. dba OHL International, 5101 S. Broad Street, Philadelphia, PA 19112. Officers: Robert Stewart, Vice President, (Qualifying Individual) Scott McWilliams, CEO.

Dated: April 9, 2010.
Karen V. Gregory,
Secretary.

[FR Doc. 2010-8546 Filed 4-13-10; 8:45 am]

BILLING CODE 6730-01-P